DEPARTMENT OF HEALTH AND HUMAN SERVICES

Centers for Disease Control and Prevention

[30Day-24-24CR]

Agency Forms Undergoing Paperwork Reduction Act Review

In accordance with the Paperwork Reduction Act of 1995, the Centers for Disease Control and Prevention (CDC) has submitted the information collection request titled “Global Public Health Data Innovation Performance Monitoring” to the Office of Management and Budget (OMB) for review and approval. CDC previously published a “Proposed Data Collection Submitted for Public Comment and Recommendations” notice on February 9, 2024 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Global Public Health Data Innovation Performance Monitoring (OMB Control Number pending)—New—Global Health Center (GHC), Centers for Disease Control and Prevention (CDC).

Background and Brief Description

The Global Public Health Data Innovation (GPHDI) initiative, led by the U.S. Centers for Disease Control and Prevention (CDC), aims to equip government decision makers with timely, accurate, and comprehensive public health data to effectively prevent, detect, and respond to public health threats. Challenges, such as limited data access, non-standardization, workforce limitations, and gaps in data systems and governance, often hinder the optimal use of data in public health response efforts. To overcome these challenges, GPHDI focuses on strengthening global outbreak response, pandemic preparedness, and surveillance through improved data availability and utilization. This is achieved by modernizing data systems and processes at all levels.

GPHDI is made possible by the American Rescue Plan Act passed by the U.S. Congress in 2021 and is rooted in key strategic pillars within CDC, namely the Data Modernization Initiative (DMI) and the Global Digital Health Strategy (GDHS). DMI is an agency-wide initiative aimed at improving data systems infrastructure within the United States, offering valuable insights and artifacts that can be adapted and leveraged for the global context of the GPHDI initiative. The goal of DMI is to get better, faster, actionable insights for decision making at all levels of public health. Complementing this, the GDHS incorporates inputs from a multi-partner engagement process, enhancing the strategic approach of the initiative.

GPHDI is currently a three-year investment that builds on an existing foundation laid by various country governments, donor agencies, and multilateral organizations. This investment is specifically allocated to advance the initiative in 10 selected countries, including Kenya, Sierra Leone, Uganda, and Zambia in Africa; Colombia and Paraguay in the South American Region; Georgia and Ukraine in Eastern Europe; Thailand in the Central Asia Region; and Honduras in the Central American Region.

This data collection is aimed at monitoring and assessing the contributions of current GPHDI investments in data modernization and digital public health infrastructure towards improving data availability to prevent, detect, and respond to public health threats in the selected countries. The indicators to be collected as shown in the data collection instrument include both structured response-type questions (Yes-No answers, coded answers) and narrative response-type questions. CDC contractors, RTI International (RTI) will conduct the interviews and CDC-funded implementing partners (IPs) monitoring and evaluation (M&E) point of contacts will provide responses to the indicators based on their funded activities. RTI will document the responses from the interviews using an instance of CDC RedCap. Interviews will be conducted in a live one-on-one session between RTI and identified M&E point of contacts at the funded IPs. No patient-level or individual level or identifiable data will be collected for this project.

CDC requests OMB approval for an estimated 64 annual burden hours. There are no costs to respondents other than their time to participate.

Estimated Annualized Burden Hours
Type of respondents | Form name | Number of respondents | Number of responses per respondent | Average burden per response (in hours)
Implementing partners (Monitoring and evaluation point of contacts) | Monitoring question guide | 32 | 1 | 2

Jeffrey M. Zirger,
Lead, Information Collection Review Office, Office of Public Health Ethics and Regulations, Office of Science, Centers for Disease Control and Prevention.

[FR Doc. 2024-08591 Filed 4-22-24; 8:45 am]

BILLING CODE 4163-18-P